DEPARTMENT OF COMMERCE

National Oceanic and Atmospheric Administration

50 CFR Part 648

[I.D. 102300A]

New England Fishery Management Council; Public Meeting

AGENCY: National Marine Fisheries Service (NMFS), National Oceanic and Atmospheric Administration (NOAA), Commerce.

ACTION: Public meeting.

SUMMARY: The New England Fishery Management Council (Council) will hold a 3-day public meeting on November 14, 15, and 16, 2000, to consider actions affecting New England fisheries in the exclusive economic zone (EEZ).

DATES: The meeting will be held on Tuesday, November 14, 2000, beginning at 9:30 a.m., and Wednesday and Thursday, November 15 and 16, at 8:30 a.m.

ADDRESSES: The meeting will be held at the Sheraton Colonial Hotel, One Audubon Road, Wakefield, MA, 01880; telephone (781) 245-9300. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Tuesday, November 14, 2000

After introductions, the meeting will begin with a report from the Sea Scallop Committee. It will ask the Council to consider a number of issues related to action on Framework Adjustment 14 to the Fishery Management Plan (FMP) for Atlantic Sea Scallops. These issues include staff recommendations for General Category permit vessel participation in the Hudson Canyon and Virginia Beach Closed Area access program and additional Scallop Committee recommendations for inclusion in Framework 14 that relate to conditions for access. The Council’s Social Sciences Advisory Panel will present its comments on the Draft Supplemental Environmental Impact Statement (DSEIS) for Framework Adjustment 14. The Council also will allow time for public comment on the Notice of Intent to prepare an SEIS. Subsequent to these agenda items, the Council intends to adopt the DSEIS. The Council is scheduled to take final action on Framework Adjustment 14 at its January 23-25, 2001, Council meeting. The Council also may request that NMFS take Interim Action to postpone the scheduled opening of the Hudson Canyon and Virginia Beach Closed Areas on March 1, 2001. The postponement, to be initiated to accommodate the preparation of the SEIS for Framework 14, would continue until the framework measures are implemented or for 180 days, whichever is earlier. In other actions under the scallop agenda item, the Council will comment on NMFS possibly allowing compensation trips to be taken by scallop vessels in the groundfish closed areas after the close of this scallop fishing year (February 28, 2001) to pay for scallop research associated with the Framework Adjustment 13 Total Allowable Catch research set-aside. Following this agenda item, the Council’s Research Steering Committee will ask the Council to approve research priorities for 2001 and review the committee’s actions to date to develop a program to address the next round of Congressional funds appropriated for collaborative research in New England.

Wednesday, November 15, 2000

The meeting will begin with a presentation of the 2000 Multispecies Monitoring Committee (MSMC) report, including its recommendations for revisions to management measures for the 2001 fishing year. Under the Groundfish Committee Report to follow, the Council will discuss these recommendations and identify alternatives for an annual framework adjustment to the Northeast Multispecies FMP that may be necessary to meet the goals and objectives of the plan. If an annual adjustment is necessary, this will be the initial meeting for Framework Adjustment 36 to the Northeast Multispecies FMP. Prior to a committee update on the development of Amendment 13 to the FMP, the Groundfish Overfishing Definition Review Panel Committee will present its report to the Council. The Groundfish Committee will then discuss rebuilding schedules and review committee progress to develop management alternatives, including possible refinements to the existing three broad alternatives under consideration for inclusion in the amendment (modifications based on the status quo, sector allocation alternative and area management alternative). There also will be discussion of a process for considering industry proposals and a new timeline for completion of Amendment 13 tasks. Additionally, under the Groundfish Committee Report agenda item, there will be a presentation of the National Research Council’s Report on Summer Flounder and Improving the Collection, Management and Use of Fisheries Data.

Thursday, November 16, 2000

The third day of the meeting will begin with reports on recent activities from the Council Chairman, Executive Director, the NMFS Regional Administrator, Northeast Fisheries Science Center and Mid-Atlantic Fishery Management Council liaisons, and representatives of the Coast Guard, NMFS Enforcement and the Atlantic States Marine Fisheries Commission. The Council's Executive Director will ask for approval of a schedule of management priorities for 2001. The Habitat Committee will ask for approval of a letter to the Environmental Protection Agency concerning its power plant permitting process. Under the Monkfish Committee Report, there will be a presentation of the Stock Assessment and Fishery Evaluation (SAFE) Report for the 1999 fishing year, which will include the annual Monkfish Monitoring Committee Report. The committee will ask for Council approval of initial action on the annual framework adjustment to the Monkfish FMP. The only measure under consideration to date concerns the necessary exemptions for vessels fishing for monkfish in the Northwest Atlantic Fisheries Organization Regulated Area. The Council may identify other measures to be analyzed and considered in the framework adjustment process. The Council meeting will adjourn after addressing any other outstanding business.

Although other non-emergency issues not contained in this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

The New England Council will consider public comments at a minimum of two Council meetings before making recommendations to the National Marine Fisheries Service Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: October 24, 2000.
Richard W. Surdi,
Acting Director, Office of Sustainable Fisheries, National Marine Fisheries Service.

[FR Doc. 00-27817 File 10-27-00; 8:45 am]

BILLING CODE 3510-22-S